DEPARTMENT OF JUSTICE

Notice of Lodging of Consent decree Under the Clean Air Act

Under 28 CFR 50.7, notice is hereby given that on September 24, 2002, a proposed consent decree in United States and City of Philadelphia v. Brotech Corporation, Civ. Action No. 00-2428, was lodged with the United States District Court for the Eastern District of Pennsylvania.

In this action the United States alleged the Brotech Corporation had violated the Clean Air Act, 42 U.S.C. 7401 et seq. by discharging pollutants into the air at its chemical processing facility at 3620 “G” Street, Philadelphia, PA. The proposed decree will require defendants to pay a civil penalty of $400,000.00, plus interest, divided equally between the United States and the City of Philadelphia. The consent decree will also require the defendant to comply with all federal, state, and local air pollution control regulations.

The Department of Justice will receive comments relating to the proposed consent decree for a period of thirty (30) days from the date of this publication. Comments should be addressed to the Chief, Civil Division, United States Attorney's Office, Eastern District of Pennsylvania, and transmitted by one of the following methods: (1) Via U.S. Mail or overnight mail to United States Attorney's Office, 615 Chestnut Street, Suite 1250, Philadelphia, PA 19106 and/or (2) by facsimile to (215) 861-8647. Each communication should reference United States and City of Philadelphia v. Brotech Corporation, CA No. 00-2428, DOJ #90-5-2-1-06899.

The proposed consent decree may be examined at the Office of the United States Attorney, 615 Chestnut Street, Suite 1250, Philadelphia, PA 19106 and at U.S. EPA Region III, 1650 Arch Street, Philadelphia, PA 19103. A copy of the proposed consent decree may also be obtained by mail from the Consent Decree Library, P.O. Box 7611, U.S. Department of Justice, Washington, DC 20044-7611. When requesting a copy, please enclose a check in the amount of $22.25 (25 cents per page reproduction cost) payable to the U.S. Treasury.

Robert Brook,
Assistant Section Chief, Environmental Enforcement Section, Department of Justice.

[FR Doc. 02-26506 Filed 10-17-02; 8:45 am]

BILLING CODE 4410-15-M